DEPARTMENT OF HEALTH AND HUMAN SERVICES

Office of Inspector General

Program Exclusions: September 2004

AGENCY: Office of Inspector General, HHS.

ACTION: Notice of program exclusions.

During the month of September 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions
ABERBACH, STEVEN | TRENTON, NJ | 10/20/2004
ANDREADIS, BARBARA | BERKELEY SPRINGS, WV | 10/20/2004
AUGUSTINE MEDICAL, INC | EDEN PRAIRIE, MN | 5/6/2004
AUSTIN, GAIL | SALEM, OR | 10/20/2004
BELFREY, THURLEE | MAPLE GROVE, MN | 10/20/2004
BELLAMY, BERNICE | LUMBERTON, NJ | 10/20/2004
BELLAMY, HARVEY | TRENTON, NJ | 10/20/2004
BENSON, BRYON | DENVER, CO | 10/20/2004
BESSETTE, H | BALLSTON LAKE, NY | 10/20/2004
BROWN, EARNEST | DEERFIELD, WI | 10/20/2004
CORRAI, RUSSELL | ELK PARK, NC | 10/20/2004
DELGADO, MANOLO | HIALEAH, FL | 10/20/2004
DIXON-PYETT, ANTOINETTE | COLUMBUS, OH | 10/20/2004
DOCTOR, JULIA | ALEXANDRIA, VA | 10/20/2004
DUENAS, ADELIODA | FRESNO, CA | 10/20/2004
DUENAS, FERALINA | FRESNO, CA | 10/20/2004
EDUKERE, GODWIN | ANTHONY, NM | 10/20/2004
FOX, BARBARA | WHITE HORSE BEACH, MA | 10/20/2004
FRANZINO, ROBERT | GREENSBURG, PA | 10/20/2004
FRENCH, CONSTANT | LITTLETON, CO | 10/20/2004
HAMILTON, CARRIE | FT WORTH, TX | 10/20/2004
JEFFERSON, SHANNON | UNION GROVE, WI | 10/20/2004
JOHANNESSEN, PAULA | COLUMBUS, OH | 10/20/2004
LAMBERT, CHRISTINA | WHEELERSBURG, OH | 10/20/2004
LEVIN, JOHN | MINERSVILLE, PA | 10/20/2004
LOWE, JAMES | TULSA, OK | 10/20/2004
LUNDQUIST, KARL | FLORENCE, CO | 10/20/2004
MARTIN, STEPHEN | SPRINGERVILLE, AZ | 10/22/2004
MILES, RICHARD | BEAUMONT, TX | 10/20/2004
MILLS, DEBORAH | GROVE CITY, OH | 10/20/2004
MODI, VINODCHANDRA | BEAVER, WV | 10/20/2004
NGANG, ITA | SILVER SPRING, MD | 10/20/2004
POKH, ROSSIA | BROOKLYN, NY | 10/20/2004
PROCTOR, DONALD | HOUSTON, TX | 10/20/2004
PUJOL, ALEJANDRO | MIAMI, FL | 10/20/2004
RAUF, ABDUL | OGDENSBURG, NY | 10/20/2004
RICE, LEISA | ELMENDORF, TX | 10/20/2004
RICHARDSON, JACQUELINE | FT WORTH, TX | 10/20/2004
RICHARDSON, TROY | LEANDER, TX | 10/20/2004
ROMERO, BERNADETTE | SANTA FE, NM | 10/20/2004
ROSARIO, DEBRA | FINDLAY, OH | 10/20/2004
ROSS, ADAM | ENCINO, CA | 10/20/2004
SATYSHUR, ELAINE | BRYAN, TX | 10/20/2004
SHANNON, MICHAEL | TROY, NY | 10/20/2004
SIGAL, DAVID | WOODLAND HILLS, CA | 10/20/2004
SIGAL, MILA | CHOWCHILLA, CA | 10/20/2004
SLATER, GERALD | GLENWOOD SPRINGS, CO | 10/20/2004
SMERECK, KAREN | CANTON, MI | 10/20/2004
TALERO, WILLIAM | JUPITER, FL | 10/20/2004
THE FAMILY PRACTICE CLINIC | KILLEN, TX | 10/20/2004
VALER, ENRIQUE | DOWNEY, CA | 10/20/2004
WEINER, MARIANNA | BROOKLYN, NY | 10/20/2004
WHITE, PUANANI | SAINT MICHAELS, MD | 10/20/2004
WHITE, RONNIE | MORGANTOWN, WV | 10/20/2004
Felony Conviction for Health Care Fraud
BLANK, CHRISTOPHER | GLENWOOD SPRINGS, CO | 10/20/2004
BROWNSTEIN, STEVEN | BALTIMORE, MD | 10/20/2004
CORTEZ, CHARLIE | THE WOODLANDS, TX | 10/20/2004
DECAVITCH, MARTHA | MAUMEE, OH | 10/20/2004
DIVENS, CATHERINE | YOUNGSTOWN, OH | 10/20/2004
FELAN, CHRISTOPHER | RICHMOND, TX | 10/20/2004
HAYDEN, JENNIFER | UNIONTOWN, OH | 10/20/2004
KOONTZ, DANIEL | GLOBE, AZ | 10/20/2004
MARCUSEN, JOLYNN | CLINTON, UT | 10/20/2004
MICHAELS, SAUNDRA | AMARILLO, TX | 10/20/2004
RAVIS, GARY | LEAWOOD, KS | 10/20/2004
RODGERS, SHERI | ESTES PARK, CO | 10/20/2004
SMALLEGAN, STACEY | WEED, CA | 10/20/2004
STEFONETTI, CHARLES | SCRANTON, PA | 10/20/2004
THOMPSON, JAMES | ST LOUIS, MO | 10/20/2004
TKACH, IVAN | PHILADELPHIA, PA | 10/20/2004
TYLER, HEATHER | AUGUSTA, ME | 10/20/2004
WEST, KEITH | WYANDOTTE, MI | 10/20/2004
WHITSON, CATHY | VINCENNES, IN | 10/20/2004
WILLIAMSON, JUDY | DENVER, CO | 10/20/2004
Felony Control Substance Conviction
BEAN, KIMBERLY | LONGMONT, CO | 10/20/2004
BOATRIGHT, SUSAN | TAFT, OK | 10/20/2004
BOYD, LORI | TULSA, OK | 10/20/2004
BROWN, MARVIN | AVENTURA, FL | 10/20/2004
CLARK, CORDELL | DALLAS, TX | 10/20/2004
COUKOS, LUKE | HOPEWELL, VA | 10/20/2004
FINCH, SCOTT | SHASTA LAKE, CA | 10/20/2004
GARDNER, RODNEY | GARLAND, UT | 10/20/2004
HARRISON, JENNY | SPANISH FORK, UT | 10/20/2004
KUNCL, CAROL | STEAMBOAT SPRINGS, CO | 10/20/2004
LONGARINI, STACEY | READING, PA | 10/20/2004
PATTERSON, LISA | ELECTRA, TX | 10/20/2004
QUAMMEN, ANETTE | OTTO, WY | 10/20/2004
TINDER, GAIL | AURORA, CO | 10/20/2004
WAINSCOTT, MICHELLE | OKLAHOMA CITY, OK | 10/20/2004
WOOLEY, CATHERINE | BEAVER FALLS, PA | 10/20/2004
Patient Abuse/Neglect Convictions
BALES, ROBERTA | MEDFORD, OK | 10/20/2004
BEVERLY, JOSEPH | CLARKSBURG, WV | 10/20/2004
BOEPPLE, JIMMIE | COVINGTON, OK | 10/20/2004
CAMARILLO, ANNA | SANGER, CA | 10/20/2004
CHINETTI, STEPHEN | SALEM, NH | 10/20/2004
DABROWSKI, CHRISTINE | GENEVA, NY | 10/20/2004
DAVIS, JANETTE | MOUNTAIN VIEW, OK | 10/20/2004
DULUDE, SHARON | RICHMOND, VT | 10/20/2004
GOSS, DAVID | SHREVEPORT, LA | 10/20/2004
HAINES, MARGARET | JOHNSTOWN, CO | 10/20/2004
HOLT, VERA | ALEXANDRIA, LA | 10/20/2004
JONES-WALKER, LINDA | TUCSON, AZ | 10/20/2004
KNIGHT, JESSIE | BALTIMORE, MD | 10/20/2004
MACABIO, JERRY | WAHIAWA, HI | 10/20/2004
MARTIN, RAYMOND | LUBBOCK, TX | 10/20/2004
MURPHY, MELONIE | LAWTON, OK | 10/20/2004
NGUYEN, VINH | CANON CITY, CO | 10/20/2004
SHUMWAY-HICKS, ELECTA | ALBANY, NY | 10/20/2004
STIEFER, STEVEN | MIDWAY, WV | 10/20/2004
WILLIS, KIM | BEATTYVILLE, KY | 10/20/2004
WOODARD, DALE | BALTIMORE, MD | 10/20/2004
Conviction for Health Care Fraud
DORR, ANGELA | SEASPORT, ME | 10/20/2004
MCKENZIE, MELODY | LAWRENCE, KS | 10/20/2004
MEMEL, STEPHANIE | FAIRFIELD CENTER, ME | 10/20/2004
License Revocation/Suspension/Surrendered
ABSHER, DONNA | KINGSPORT, TN | 10/20/2004
ABUELKHAIR, AYDA | LOS ANGELES, CA | 10/20/2004
ADAMS, MICHAEL | LAS VEGAS, NV | 10/20/2004
ALBAT, DAVID | SPRING HILL, FL | 10/20/2004
ALVIS, SHERYL | SHELBYVILLE, IN | 10/20/2004
BACAYO, LUIS | STREATOR, IL | 10/20/2004
BALL, MARIVIC | FREDERICKSBURG, VA | 10/20/2004
BARANCZYK, TERRI | LANCASTER, CA | 10/20/2004
BARDASH, JOHN | COLUMBIA, MO | 10/20/2004
BARRIOS, KATHY | WEATHERFORD, OK | 10/20/2004
BEAVER, JANE | PORTAGE, WI | 10/20/2004
BECERRA, DIANA | LYTLE, TX | 10/20/2004
BEDIC, OLIVERA | LIC, NY | 10/20/2004
BERSHATSKY, DEBORAH | NEW YORK, NY | 10/20/2004
BESSETTE, NICHOLE | BRANDENTON, FL | 10/20/2004
BIGGS, DEANA | RIVERSIDE, CA | 10/20/2004
BLACK, HOWARD | LONG BEACH, CA | 10/20/2004
BLAKE, CYNTHIA | LAS VEGAS, NV | 10/20/2004
BLODGETT, MICHAEL | FT LAUDERDALE, FL | 10/20/2004
BROWN, ALDENA | PARK CITY, UT | 10/20/2004
BRYAN, HUGH | CLIFTON PARK, NY | 10/20/2004
BRYAN, JOYCE | FRAZER, PA | 10/20/2004
BUSKEY, SARA | NEWPORT, VT | 10/20/2004
BUTSCHLE, KELLY | MOON TOWNSHIP, PA | 10/20/2004
BYRNE, PATRICIA | BOMOSEEN, VT | 10/20/2004
CABEEN, BETTY W | FRANKFORT, IL | 10/20/2004
CAPUANO, NANCY | FORT WORTH, TX | 10/20/2004
CARPER, JENNIFER | BENBROOK, TX | 10/20/2004
CARROLL, SHANNON | WEST WARWICK, RI | 10/20/2004
CASAVANT, GERALD | HOOSICK, NY | 10/20/2004
CATLIN-LONG, MARSHA | OAK RIDGE, TN | 10/20/2004
CLAY, SANDRA | HUMMELSTOWN, PA | 10/20/2004
CLEGGETT-LUCAS, JACQUELINE | NEW ORLEANS, LA | 10/20/2004
COLON, GREGORIA | MODESTO, CA | 10/20/2004
COLWELL, JAMES | PITTSBURGH, PA | 10/20/2004
COOPER, MARY | GORHAM, ME | 10/20/2004
COTE, JILL | WATERBORO, ME | 10/20/2004
CREASY, SUZAN | THAXTON, VA | 10/20/2004
CRONK, JOHN | HEATH, TX | 10/20/2004
CROSBY, LAURA | ADAMS, MA | 10/20/2004
CROSSLEY, DEBORAH | STOWE, VT | 10/20/2004
CULBREATH, SONG | AURORA, CO | 10/20/2004
DARTEZ, SUZANNA | ARNAUDVILLE, LA | 10/20/2004
DAVIDSON, MILDRED | CHESAPEAKE, VA | 10/20/2004
DAVIS, VIRGILIA | SANTA CLARA, CA | 10/20/2004
DAYTON, NANCY | CHANDLER, AZ | 10/20/2004
DENSON, YOLANDA | PROVIDENCE, RI | 10/20/2004
DEROUEN, JASON | MONROE, LA | 10/20/2004
DESTRY, DIANA | BILOXI, MS | 10/20/2004
DIEL, JONATHAN | AZUSA, CA | 10/20/2004
DIETZ, STERLING | RICHMOND, TX | 10/20/2004
DOLEZAL, BRENDA | STERLING, CO | 10/20/2004
DOTSON, JENNIFER | LAKE JACKSON, TX | 10/20/2004
DOYLE, JUDITH | MORRISTOWN, NJ | 10/20/2004
DRAKE, DARREN | CHICAGO, IL | 10/20/2004
DUTTON, GLENN | RIVERTON, UT | 10/20/2004
ELLIS, MICHELLE | BLOOMINGTON, IN | 10/20/2004
ELLSWORTH, STEVEN | FACTORYVILLE, PA | 10/20/2004
ELSAYID, HUMDY | ROWLAND HEIGHTS, CA | 10/20/2004
ENGLAND, RENEE | PHILLIPPI, WV | 10/20/2004
FONDAKOWSKI, DORENE | EAST ARLINGTON, VT | 10/20/2004
FORSLEY-PLATA, ELIZABETH | PORTLAND, ME | 10/20/2004
FORTIN, JACQUELINE | BENTON, AR | 10/20/2004
FOSTER, JANIS | JONESBORO, AR | 10/20/2004
FRECKLETON, DIANA | BRATTLEBORO, VT | 10/20/2004
GALLAWA, HEATHER | SACRAMENTO, CA | 10/20/2004
GARDINER, ED | OGDEN, UT | 10/20/2004
GAZAILLE, DAVID | EDGARTOWN, MA | 10/20/2004
GEARY, DOLLIE | GEORGETOWN, IN | 10/20/2004
GILL, SHARON | ENUMCLAW, WA | 10/20/2004
GILLIS, SARA | FRAMINGHAM, MA | 10/20/2004
GIVENS, MARY | NORRIS CITY, IL | 10/20/2004
GOMEZ, MARTHA | LAKEWOOD, CA | 10/20/2004
GONZALEZ, AMPARO | GONZALES, CA | 10/20/2004
GOODIN, BRIAN | NORMAL, IL | 10/20/2004
GORDON, CURTIS | TEMPLE, TX | 10/20/2004
GORSKI, JAMES | LINDENHURST, IL | 10/20/2004
GOSCH, DEBORA | FULTON, NY | 10/20/2004
GUBATON, LEA | MORENO VALLEY, CA | 10/20/2004
GUILBEAU, DANA | SIMMESPORT, LA | 10/20/2004
HAIDEN, JOSEPH | NEWBURGH, ME | 10/20/2004
HAIRSTON, PAMELA | BOSSIER CITY, LA | 10/20/2004
HANSEN, SAMANTHA | MANTI, UT | 10/20/2004
HARRIS, JENNIFER | LITTLETON, CO | 10/20/2004
HART, WILLIAM | KENNER, LA | 10/20/2004
HARVEY, SHARON | METHUEN, MA | 10/20/2004
HATHAWAY, ADRIENNE | PITTSFORD, VT | 10/20/2004
HEATH, WILLIAM | NEWPORT NEWS, VA | 10/20/2004
HENNE, LISA | OLNEY, IL | 10/20/2004
HICE, PHILIP | WINTHROP HARBOR, IL | 10/20/2004
HOBBS, JANET | WINCHESTER, KY | 10/20/2004
HORNE, CARRIE | VAN BUREN, AR | 10/20/2004
HOUCK, HENRY | CLINTON, NY | 10/20/2004
HOWARD, PAMELA | RUTLAND, VT | 10/20/2004
HOWLEY, KATHLEEN | BENNINGTON, VT | 10/20/2004
HUCH, STEVEN | SAN DIEGO, CA | 10/20/2004
HUNTSMAN, KEITH | SALT LAKE CITY, UT | 10/20/2004
IRVING, DECLAN | CHESAPEAKE, VA | 10/20/2004
JASKIEWICZ, RICHARD | TUCSON, AZ | 10/20/2004
JAVED, TAHIR | OMAHA, NE | 10/20/2004
JEFFRIES, JILL | ARVADA, CO | 10/20/2004
JOHNS, KENNETH | MESA, AZ | 10/20/2004
JOHNSON, DEBERA | JONESBORO, GA | 10/20/2004
JOHNSON, ERIC | DAYTON, ME | 10/20/2004
JOHNSON, PAMELA | SAN JOSE, CA | 10/20/2004
JOLIVETTE, JOSEPH | WICHITA, KS | 10/20/2004
JONES, CAROL | MESA, AZ | 10/20/2004
JORDAN, SHEILA | HENDERSON, NV | 10/20/2004
JULIANO, CAROLINA | VILLA PARK, IL | 10/20/2004
KENNEDY, ELIZABETH | SPRINGFIELD, MA | 10/20/2004
KIESSLING, LINDA | W ROXBURY, MA | 10/20/2004
KING, DAVID | CALUMET CITY, IL | 10/20/2004
KING, HEIDI | E ARLINGTON, VT | 10/20/2004
KRAFT, GEORGE | NEW ALBANY, IN | 10/20/2004
LANDOLT, ETHEL | SHUBENACKIE, NS | 10/20/2004
LAPLANT, STEVEN | EAST MIDDLEBURY, VT | 10/20/2004
LENZY, ALICE | CANTON, OH | 10/20/2004
LEONARD, GREGORY | SPRINGFIELD, MO | 10/20/2004
LOVATO, BRENDA | OKLAHOMA CITY, OK | 10/20/2004
LOVELESS, LAUREN | LITTLE ROCK, AR | 10/20/2004
LUCKETT, ALTON | SAN ANTONIO, TX | 10/20/2004
LUNDY, SUSAN | COLCHESTER, VT | 10/20/2004
LYNCH, JOHN | IONE, CA | 10/20/2004
MACABABBAD, IMELDA | FONTANA, CA | 10/20/2004
MALDONADO, LIZABETH | OXNARD, CA | 10/20/2004
MARSHALL, TAMMY | VICTORVILLE, CA | 10/20/2004
MARTZ, CHRISTINE | SCOTTSDALE, AZ | 10/20/2004
MATHIS, JOHN | ARLINGTON, TX | 10/20/2004
MCCANN, JAMES | SPRING, TX | 10/20/2004
MCCOY, CHARLES | PITTSBURGH, PA | 10/20/2004
MCDONALD, NANCY | BOMOSEEN, VT | 10/20/2004
MCGEE, MAURICE | INDIANAPOLIS, IN | 10/20/2004
MCGINNIS, PRUDENCE | LEWISVILLE, TX | 10/20/2004
MCGRAW, DUANE | ROUNDLAKE, NY | 10/20/2004
MCQUEARY, JACQUELINE | COLUMBUS, IN | 10/20/2004
MEASE, VICKY | CHATHAM, VA | 10/20/2004
MENDONCA, DOMINGAS | N PROVIDENCE, RI | 10/20/2004
MENDOZA, CATALINA | RIVERSIDE, CA | 10/20/2004
MEYER, AUDRA | BOISE, ID | 10/20/2004
MIANO, ELIZABETH | LA PLACE, LA | 10/20/2004
MILANA, MATHELMA | SAN DIEGO, CA | 10/20/2004
MILLER, DAYNA | FLORENCE, TX | 10/20/2004
MILLER, GEORGE | PHOENIX, AZ | 10/20/2004
MILLER, JON | DECATUR, IL | 10/20/2004
MOLMEN, LAYNE | PHILADELPHIA, PA | 10/20/2004
MOPPIN, SHANETA | PHOENIX, AZ | 10/20/2004
MORMAN, PEGGY | OTTAWA, OH | 10/20/2004
MORRIS, RICKY | BRAINTREE, VT | 10/20/2004
MOULTON, RONALD | BOISE, ID | 10/20/2004
MUELLER, ANNEMARIE | ALEXANDRIA, VA | 10/20/2004
MUNN, NATHAN | HELENA, MT | 10/20/2004
MURPHY, JAMES | HENDERSON, NV | 10/20/2004
MURPHY, MARGARET | MIDDLEBORO, MA | 10/20/2004
NAGEL, KIM | LITTLETON, CO | 10/20/2004
NAGLE, MICHAEL | NORTHFIELD FALLS, VT | 10/20/2004
NEALY, THERON | DENVER, CO | 10/20/2004
NEGRON, MARIA | NORTH CHICAGO, IL | 10/20/2004
NEPOMUCENO, CRISTINA | SAN DIEGO, CA | 10/20/2004
NERCESSIAN, MARK | HAMBURG, NY | 10/20/2004
OLSEN, ANN | SPRING CREEK, NV | 10/20/2004
PAREDES, LIZETTE | AZUSA, CA | 10/20/2004
PATENAUDE, DEBRA | CROWN POINT, NY | 10/20/2004
PATTERSON, MARY | SNOOK, TX | 10/20/2004
PERSHALL, LYDIA | RENO, NV | 10/20/2004
PETERS, DARA | RENO, NV | 10/20/2004
PETSCH, REGINA | ERIE, PA | 10/20/2004
PIPER, HEATHER | WHITING, VT | 10/20/2004
POINTER, ANTHONY | FORT COLLINS, CO | 10/20/2004
PRESTON, DEBRA | MACON, GA | 10/20/2004
PROUTY, SHAUN | NORTH POWNAL, VT | 10/20/2004
RAMIREZ, MARGARET | ANTIOCH, CA | 10/20/2004
RAMSEY, JAMES | LAGUNA HILLS, CA | 10/20/2004
RANDALL, TERESA | WILLS POINT, TX | 10/20/2004
RAPHLAH, RAPHAEL | INDIANAPOLIS, IN | 10/20/2004
RATANAPROEK, CHANTIMA | CHESTERTON, IN | 10/20/2004
RAWLINSON, LISA | WINNFIELD, LA | 10/20/2004
RENNER, HELEN | CONVERSE, TX | 10/20/2004
RICHARDSON, PAMELA | MARINA, CA | 10/20/2004
RIDENOUR, DIANA | PITTSFIELD, MA | 10/20/2004
RIDGEWAY, DEANA | PADUCAH, KY | 10/20/2004
RITZ, SUSAN | LITTLETON, CO | 10/20/2004
ROBERTSON, APRIL | GROVE CITY, PA | 10/20/2004
ROGERS, SKIP | UPPER DARBY, PA | 10/20/2004
ROLAND-STUDENY, BETH | MANASSAS PARK, VA | 10/20/2004
ROSOV, HOWARD | ARNOLD, MD | 10/20/2004
ROSS, SUZANNE | NEWPORT NEWS, VA | 10/20/2004
ROUND, ANDREA | CATHEDRAL CITY, CA | 10/20/2004
RUSSO, DOUGLAS | ARVADA, CO | 10/20/2004
SAINT-ERNE, PHILIP | KENAI, AK | 10/20/2004
SAMILA, FRANK | AURORA, CO | 10/20/2004
SAWTELLE, PAULA | LUBEC, ME | 10/20/2004
SAYLES, ARNETTA | RICHMOND, VA | 10/20/2004
SCHMIDT, BOYD | DELTA, CO | 10/20/2004
SCHROEDER, JILL | STATELINE, NV | 10/20/2004
SCOTT, CAROLYN | LANCASTER, CA | 10/20/2004
SELDON, PELMA | EL CERRITO, CA | 10/20/2004
SHELLEY, COLLEEN | COSTA MESA, CA | 10/20/2004
SHOCKEY, SHERI | MEMPHIS, TN | 10/20/2004
SIMMONS, SHANNON | EVANSVILLE, IN | 10/20/2004
SKINNER, KAREN | PHOENIX, AZ | 10/20/2004
SMITH-HUNT, TAMMY | TAMPA, FL | 10/20/2004
SMITH-VANIZ, ALLISON | LA JOLLA, CA | 10/20/2004
SNYDER, BETH | BLASDELL, NY | 10/20/2004
SODDY, CHRISTINA | SALIDA, CO | 10/20/2004
SOKOLOWSKI, TARA | TUNKHANNOCK, PA | 10/20/2004
SOLIS, MICHAEL | LAS VEGAS, NV | 10/20/2004
SOLLNERSAWYER, LISA | OLD ORCHARD BEACH, ME | 10/20/2004
SOMMER, DOUGLAS | EVERETT, WA | 10/20/2004
SOWARD, LAUREN | LANCASTER, CA | 10/20/2004
SPARKMAN, DAVID | OLYMPIA, WA | 10/20/2004
SPRONG, KATHERINE | SCOTTSDALE, AZ | 10/20/2004
STARCHER, VONNIE | WESTMINISTER, CO | 10/20/2004
STEELE, SANDRA | OVERLAND PARK, KS | 10/20/2004
SUSCA, LORA | HENDERSON, NV | 10/20/2004
THOMPSON, RICHARD | LAS VEGAS, NV | 10/20/2004
THOMSEN, PHILLIP | MESA, AZ | 10/20/2004
THORUM, TROY | CYPRESS, TX | 10/20/2004
TILLER, BONNIE | TAMPA, FL | 10/20/2004
TIMMS, DONNA | SACRAMENTO, CA | 10/20/2004
TORRANCE, MELISSA | WEST NEWTOWN, PA | 10/20/2004
TUCKER, KATHERINE | PRESCOTT, AZ | 10/20/2004
TURNER, ANDREW | WATERBURY CENTER, VT | 10/20/2004
TUTTLE, EARL | HUNTSVILLE, TX | 10/20/2004
ULANSKAS, MARIA | HEDNERSON, NV | 10/20/2004
VIVEKAPHIRAT, VISUIT | NORTHFIELD, IL | 10/20/2004
WADE, BARBARA | INDIANAPOLIS, IN | 10/20/2004
WAGES, JEFF | EL PASO, TX | 10/20/2004
WALLER, JEFFREY | SPRINGFIELD, VT | 10/20/2004
WEST, ELIZABETH | CROWN POINT, IN | 10/20/2004
WHITEROCK, ANNA | EVERGREEN, CO | 10/20/2004
WILLIAMS, BARBARA | WATERBURY, VT | 10/20/2004
WILLIAMS, GREGORY | CLEVELAND, OH | 10/20/2004
WILLIAMSON, JAMES | GREENVILLE, NC | 10/20/2004
WILSON, ELIZABETH | ZEPHYR COVE, NV | 10/20/2004
WILSON, SHEILA | MAMMOTH, PA | 10/20/2004
WINSTON, CLINTON | CONCORD, MA | 10/20/2004
YEUTSY, MARY | CEDAR RAPIDS, IA | 10/20/2004
ZEDD, ARNOLD | ALEXANDRIA, VA | 10/20/2004
ZINGERY, LEWIS | AUSTIN, TX | 10/20/2004
Fraud/Kickbacks/Prohibited Acts/Settlement Agreements
ZHITLOVSKY, GERMAN | LENEXA, KS | 12/18/2003
Owned/Controlled by Convicted Entities
AESTHETIC & VEIN INSTITUTE, INC | LAKEWOOD, CO | 10/20/2004
AFFORDABLE CHIROPRACTIC, INC | N OLMSTEAD, OH | 10/20/2004
BLAKE G SINCLAIR, D D S, P A | TYLER, TX | 10/20/2004
CHRIS-JEN HEALTHCARE, INC | N OLMSTEAD, OH | 10/20/2004
COSTA MESA CHIROPRACTIC CLINIC | GLENDALE, CA | 10/20/2004
CROSS HEALTHCARE, INC | N OLMSTEAD, OH | 10/20/2004
DOVE HEALTHCARE, INC | N OLMSTEAD, OH | 10/20/2004
ECB, INC | MILWAUKEE, WI | 10/20/2004
GARY L SNYDER, DPM, RVT, P C | LAKEWOOD, CO | 10/20/2004
HAYA MEDICAL GROUP | FONTANA, CA | 10/20/2004
HEALTH HORIZONS, INC | SPRINGERVILLE, AZ | 10/20/2004
KONINGH CHIROPRACTIC | NEW PORT BEACH, CA | 10/20/2004
LAMB HEALTHCARE, INC | N OLMSTEAD, OH | 10/20/2004
LIFE HEALTHCARE, INC | N OLMSTEAD, OH | 10/20/2004
MISSION HEARING AID CENTER | VISTA, CA | 10/20/2004
MISSION HEARING AID CENTER | OCEANSIDE, CA | 10/20/2004
NORTHCOAST TESTING, INC | N OLMSTEAD, OH | 10/20/2004
PEOPLE'S CHIROPRACTIC, INC | N OLMSTEAD, OH | 10/20/2004
PHARM-ASSIST, INC | RAIFORD, FL | 10/20/2004
PRAISE HEALTHCARE, INC | N OLMSTEAD, OH | 10/20/2004
TRINITY TRANSPORT AMBULETTE | POMEROY, OH | 10/20/2004
Default on Heal Loan
AJAYI, ADEYINKA | HEMPSTEAD, NY | 10/20/2004
MAKER, JAMES | OKLAHOMA CITY, OK | 8/26/2004

Dated: October 1, 2004.
Kathleen Pettit,
Acting Director, Exclusions Staff, Office of Inspector General.

[FR Doc. 04-22904 Filed 10-12-04; 8:45 am]

BILLING CODE 4150-04-P